DEPARTMENT OF STATE

[Public Notice 6515]

Notice of Closed Meeting of the Cultural Property Advisory Committee

In accordance with the provisions of the Convention on Cultural Property Implementation Act (19 U.S.C. 2601 et seq.) (the Act) there will be a meeting of the Cultural Property Advisory Committee on Tuesday, March 24, from approximately 9 a.m. to 5 p.m., and on Wednesday, March 25, from approximately 9 a.m. to 1 p.m., at the Department of State, Annex 44, Room 840, 301 4th St., SW., Washington, DC. At this meeting the Committee will carry out its interim review function with respect to the Memorandum of Understanding Between the Government of the United States of America and the Government of the Republic of Nicaragua Concerning the Imposition of Import Restrictions on Archaeological Material from the Pre-Hispanic Cultures of Nicaragua. The Committee will conduct an interim review of the effectiveness of the MOU pursuant to the Act and will focus its attention on Article II. This is not a meeting to consider extension of the MOU. Such a meeting will be scheduled and announced in the future and will include a public session.

The Committee will also undertake an internal security and ethics briefing, as required annually.

The Committee's responsibilities are carried out in accordance with provisions of the Act. Related information may be found at http://exchanges.state.gov/culprop.

The meeting on March 24-25 will be closed pursuant to 5 U.S.C. 552b(c)(9)(B) and 19 U.S.C. 2605(h).

Dated: March 2, 2009.
C. Miller Crouch,
Acting Assistant Secretary for Educational and Cultural Affairs, Department of State.

[FR Doc. E9-5071 Filed 3-9-09; 8:45 am]

BILLING CODE 4710-05-P